DEPARTMENT OF HOMELAND SECURITY

Coast Guard

33 CFR Part 117

[CGD08-03-031]

Drawbridge Operating Regulation; Illinois Waterway, Joliet, IL

AGENCY: Coast Guard, DHS.

ACTION: Notice of temporary deviation from regulations.

SUMMARY: The Commander, Eighth Coast Guard District has issued a temporary deviation from the regulation governing the operation of the Chicago, Rock Island and Pacific Railway Drawbridge, across the Illinois Waterway, mile 287.6 at Joliet, Illinois. This deviation allows the drawbridge to remain closed to navigation for six separate increments starting at 7 a.m, September 15, 2003, and ending at 7 p.m., September 26, 2003, Central Standard Time. The deviation is necessary to facilitate maintenance work on the bridge that is essential to the continued safe operation of the drawbridge.

DATES: This temporary deviation is effective from 7 a.m., September 15, 2003, until 7 p.m., September 26, 2003.

ADDRESSES: Materials referred to in this rule are available for inspection or copying at the office of the Eighth Coast Guard District, Bridge Administration Branch, Commander (obr), Eighth Coast Guard District, 1222 Spruce Street, St. Louis, MO 63103-2832, between 8 a.m. and 4 p.m., Monday through Friday, except Federal holidays. The Bridge Administration Branch maintains the public docket for this temporary deviation.

FOR FUTHER INFORMATION CONTACT: Roger K. Wiebusch, Bridge Administrator, Commander (obr), Eighth Coast Guard District, 1222 Spruce Street, St. Louis, MO 63103-2832, (314) 539-3900, extension 2378.

SUPPLEMENTARY INFORMATION: The CSX Railway Company requested a temporary deviation on July 17, 2003 for the operation of the drawbridge to allow the bridge owner time for preventative maintenance. Presently, the draw opens on signal for passage of river traffic. This deviation allows the bridge to remain closed to navigation for six separate increments from 7 a.m. until 7 p.m., September 15, 2003; from 5 a.m. until 9 p.m., September 17, 2003; from 7 a.m., until 7 p.m., September 19, 2003; from 7 a.m. until 7 p.m., September 22, 2003, from 5 a.m., until 9 p.m., September 24, 2003; and from 7 a.m. until 7 p.m., September 26, 2003. Vessels not exceeding the vertical clearance of the drawbridge may pass under the drawbridge during repairs. There are no alternate routes for vessels transiting through mile 287.6 on the Illinois Waterway. The drawbridge will be incapable of opening for emergencies during the six increment repair periods.

The Chicago, Rock Island and Pacific Railway Drawbridge provides a vertical clearance of 9.5 feet above normal pool in the closed to navigation position. Navigation on the waterway consists primarily of commercial tows and recreational watercraft. In order to replace the counterweight cables the bridge must be kept inoperative and in the closed to navigation position. This deviation has been coordinated with waterway users. No objections were received.

In accordance with 33 CFR 117.35(c), this work will be performed with all due speed in order to return the bridge to normal operation as soon as possible. This deviation from the operating regulations is authorized under 33 CFR 117.35.

Dated: August 4, 2003.
Roger K. Wiebusch,
Bridge Administrator.

[FR Doc. 03-20507 Filed 8-11-03; 8:45 am]

BILLING CODE 4910-15-P